DEPARTMENT OF ENERGY

Federal Energy Regulatory Commission

[Docket No. EG00-89-000, et al.]

Louisiana Generating LLC, et al.; Electric Rate and Corporate Regulation Filings

March 15, 2000.

Take notice that the following filings have been made with the Commission:

1. Louisiana Generating LLC

[Docket No. EG00-89-000]

Take notice that on March 15, 2000, Louisiana Generating LLC filed with the Federal Energy Regulatory Commission an amendment to its application for determination of exempt wholesale generator status, which was filed on February 3, 2000 in the above-referenced proceeding.

Comment date: March 27, 2000, in accordance with Standard Paragraph E at the end of this notice. The commission will limit its consideration of comments to those that concern the adequacy or accuracy of the application.

2. South Eastern Generating Corporation

[Docket No. EG00-111-000]

Take notice that on March 7, 2000, South Eastern Generating Corporation (South Eastern) filed an amendment to their Application for Determination of Exempt Wholesale Generator Status filed with the Federal Energy Regulatory Commission (Commission) on March 3, 2000.

Comment date: March 29, 2000, in accordance with Standard Paragraph E at the end of this notice. The Commission will limit its consideration of comments to those that concern the adequacy or accuracy of the application.

3. South Carolina Electric & Gas Company, SCANA Energy Marketing, Inc.

[Docket Nos. ER96-1085-005 and ER96-1086-016]

Take notice that on March 9, 2000, South Carolina Electric & Gas Company and SCANA Energy Marketing, Inc., tendered for filing an updated market analysis in connection with their market-based rate authority.

Comment date: March 30, 2000, in accordance with Standard Paragraph E at the end of this notice.

4. Oceanside Energy, Inc.

[Docket No. ER97-181-007]

Take notice that on March 6, 2000, Oceanside Energy, Inc. filed a quarterly report for information only.

5. ECONnergy Energy Co., Inc.

[Docket Nos. ER98-2553-005, ER98-2553-006 and ER98-2553-007]

Take notice that on March 3, 2000, the above-mentioned power marketer filed quarterly reports with the Commission in the above-mentioned proceedings for information only.

6. Calvert Cliffs, Inc.

[Docket No. ES00-20-000]

Take notice that on March 10, 2000, Calvert Cliffs, Inc. (Applicant) submitted an application pursuant to Section 204 of the Federal Power Act. Applicant seeks authorization to: (a) Assume up to $47 million of tax exempt debt, (b) issue up to $600 million of unsecured promissory notes, (c) issue 5,000 shares of common stock, (d) execute an intercompany credit agreement and note of up to $100 million, and (e) execute a master demand note of up to $150 million.

Applicant also requests a waiver of the Commission's competitive bidding and negotiated placement requirements of 18 CFR 34.2.

Comment date: April 5, 2000, in accordance with Standard Paragraph E at the end of this notice.

7. Constellation Generation, Inc.

[Docket No. ES00-21-000]

Take notice that on March 10, 2000, Constellation Generation, Inc. (Applicant) submitted an application pursuant to Section 204 of the Federal Power Act. Applicant seeks authorization to: (a) Assume up to $232 million of tax exempt debt, (b) issue up to $550 million of unsecured promissory notes, (c) issue 5,000 shares of common stock, and (d) execute a master demand note of up to $150 million.

Applicant also requests a waiver of the Commission's competitive bidding and negotiated placement requirements of 18 CFR 34.2.

Comment date: April 5, 2000, in accordance with Standard Paragraph E at the end of this notice.

8. Central Maine Power Company

[Docket No. ER00-605-001]

Take notice that on March 8, 2000, Central Maine Power Company (CMP), tendered for filing the “First Amendment to Hydro Quebec Entitlement Agreement” (First Amendment), in compliance with the letter order dated February 23, 2000 (Letter Order), in Central Maine Power Company, Docket No. ER00-605-000, by the Commission's Office of Markets, Tariffs and Rates. The First Amendment deletes from the Hydro Quebec Entitlement Agreement, dated November 1, 1999, Subsections a, c and d of Section 15.17, as directed by the Letter Order.

Comment date: March 29, 2000, in accordance with Standard Paragraph E at the end of this notice.

9. ISO New England Inc.

[Docket No. ER00-749-001]

Take notice that on March 10, 2000, ISO New England Inc., tendered for filing a notice of compliance regarding the confirmation of Revisions to New England Power Pool (NEPOOL) Market Rule 15 and Appendix 15-A by the NEPOOL Participants Committee.

Copies of said filing have been served upon each person designated on the official service list compiled by the Secretary in this proceeding.

Comment date: March 31, 2000, in accordance with Standard Paragraph E at the end of this notice.

10. Central Maine Power Company

[Docket No. ER00-982-001]

Take notice that on March 8, 2000, Central Maine Power Company (CMP), tendered for filing revised page 171 of CMP's Open Access Transmission Tariff (Revised Page 171) in compliance with Central Maine Power Company, 90 FERC ¶61,214 (2000) (February 28th Order). The February 28th Order directed CMP to remove revisions to its Open Access Transmission Tariff (OATT) that provide for recovery from unbundled retail customers for local distribution and retail stranded costs. Accordingly, the Revised Page 171 removes such revisions from exception number 7 of CMP's OATT.

Comment date: March 29, 2000, in accordance with Standard Paragraph E at the end of this notice.

11. Central Maine Power Company

[Docket No. ER00-1638-001]

Take notice that on March 9, 2000, Central Maine Power Company (CMP), tendered for filing an executed Interconnection Agreement (IA) with Boralex Athens Energy Inc., (Boralex). This IA supersedes the unexecuted version of the IA that CMP filed with FERC on February 17, 2000.

Among other changes made to reflect the final agreement of the parties, the executed version of the IA has been modified to correct a typographical error as to the dates when it will be effective. Consistent with the actual data upon which service to Boralex commenced, CMP requests that the IA become effective on January 18, 2000.

Copies of this filing have been served upon the Maine Public Utilities Commission and Boralex.

Comment date: March 30, 2000, in accordance with Standard Paragraph E at the end of this notice.

12. North American Electric Reliability Council

[Docket No. ER00-1666-000]

Take notice that on March 10, 2000, the North American Electric Reliability Council (NERC) tendered for filing in this docket a blacklined version of the proposed revisions to NERC's Transmission Loading Relief Procedures.

Comment date: March 31, 2000, in accordance with Standard Paragraph E at the end of this notice.

13. New England Power Company

[Docket No. ER00-1698-000]

Take notice that on March 10, 2000, New England Power Company amended its February 25, 2000, filing in this proceeding.

Comment date: March 31, 2000, in accordance with Standard Paragraph E at the end of this notice.

14. Allegheny Energy Service Corporation, on behalf of Monongahela Power Company, The Potomac Edison Company, and West Penn Power Company (Allegheny Power)

[Docket No. ER00-1859-000]

Take notice that on March 10, 2000, Allegheny Energy Service Corporation on behalf of Monongahela Power Company, The Potomac Edison Company and West Penn Power Company (Allegheny Power), tendered for filing Notices of Cancellation for Sonat Power Marketing Inc. and Sonat Power Marketing L.P., a customer under Allegheny Power's Open Access Transmission Service Tariff.

Copies of the filing have been provided to the Public Utilities Commission of Ohio, the Pennsylvania Public Utility Commission, the Maryland Public Service Commission, the Virginia State Corporation Commission, and the West Virginia Public Service Commission.

Comment date: March 31, 2000, in accordance with Standard Paragraph E at the end of this notice.

15. Allegheny Energy Service Corporation, on Behalf of Monongahela Power Company, The Potomac Edison Company, and West Penn Power Company (Allegheny Power)

[Docket No. ER00-1860-000]

Take notice that on March 13, 2000, Allegheny Energy Service Corporation on behalf of Monongahela Power Company, The Potomac Edison Company and West Penn Power Company (Allegheny Power), tendered for filing Supplement No. 73 to add Cargill-Alliant, LLC to Allegheny Power's Open Access Transmission Service Tariff which has been accepted for filing by the Federal Energy Regulatory Commission in Docket No. ER96-58-000.

The proposed effective date under the Service Agreements is March 10, 2000 or a date ordered by the Commission.

Copies of the filing have been provided to the Public Utilities Commission of Ohio, the Pennsylvania Public Utility Commission, the Maryland Public Service Commission, the Virginia State Corporation Commission, and the West Virginia Public Service Commission.

Comment date: April 3, 2000, in accordance with Standard Paragraph E at the end of this notice.

16. Allegheny Energy Service Corporation, on Behalf of Monongahela Power Company, The Potomac Edison Company, and West Penn Power Company (Allegheny Power)

[Docket No. ER00-1861-000]

Take notice that on March 13, 2000, Allegheny Energy Service Corporation on behalf of Monongahela Power Company, The Potomac Edison Company and West Penn Power Company (Allegheny Power), tendered for filing Supplement No. 72 to add Allegheny Energy Supply Company, LLC to Allegheny Power's Open Access Transmission Service Tariff which has been accepted for filing by the Federal Energy Regulatory Commission in Docket No. ER96-58-000.

The proposed effective date under the Service Agreements is March 10, 2000, or a date ordered by the Commission.

Copies of the filing have been provided to the Public Utilities Commission of Ohio, the Pennsylvania Public Utility Commission, the Maryland Public Service Commission, the Virginia State Corporation Commission, and the West Virginia Public Service Commission.

Comment date: April 3, 2000, in accordance with Standard Paragraph E at the end of this notice.

17. Maine Public Service Company

[Docket No. ER00-1862-000]

Take notice that on March 13, 2000, Maine Public Service Company (Maine Public), tendered for filing an executed Service Agreement for Network Integration Transmission Service under Maine Public's open access transmission tariff with Eastern Maine Electric Cooperative, Inc.

Comment date: April 3, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-7064 Filed 3-21-00; 8:45 am]

BILLING CODE 6717-01-P